DEPARTMENT OF THE INTERIOR

Fish and Wildlife Service

[FWS-R8-ES-2017-N103; FXES11130000-189-FF08E00000]

Endangered and Threatened Wildlife and Plants; Draft Recovery Plan for Franciscan Manzanita (Arctostaphylos franciscana)

AGENCY: Fish and Wildlife Service, Interior.

ACTION: Notice of document availability.

SUMMARY: We, the U.S. Fish and Wildlife Service, announce the availability of the Draft Recovery Plan for Franciscan Manzanita (Arctostaphylos franciscana) for public review and comment. The draft recovery plan includes objective, measurable criteria for downlisting the species to threatened, and site-specific actions necessary to reclassify the species from endangered to threatened on the Federal Lists of Endangered and Threatened Wildlife and Plants.

DATES: We must receive any comments on the draft recovery plan on or before February 25, 2019.

ADDRESSES: You may obtain a copy of the draft recovery plan from our website at http://www.fws.gov/endangered/species/recovery-plans.html. Alternatively, you may contact the Sacramento Fish and Wildlife Office, U.S. Fish and Wildlife Service, 2800 Cottage Way, Suite W-2605, Sacramento, CA 95825 (telephone 916-414-6700).

FOR FURTHER INFORMATION CONTACT: Jennifer Norris, Field Supervisor, at the above street address or telephone number (see ADDRESSES).

SUPPLEMENTARY INFORMATION:

Background

Recovery of endangered or threatened animals and plants to the point where they are again secure, self-sustaining members of their ecosystems is a primary goal of our endangered species program and the Endangered Species Act of 1973, as amended (ESA; 16 U.S.C. 1531 et seq.). Recovery means improvement of the status of listed species to the point at which listing is no longer appropriate under the criteria specified in section 4(a)(1) of the ESA. The ESA requires the development of recovery plans for listed species, unless such a plan would not promote the conservation of a particular species.

Pursuant to section 4(f) of the ESA, a recovery plan must, to the maximum extent practicable, include (1) a description of site-specific management actions as may be necessary to achieve the plan's goals for the conservation and survival of the species; (2) objective, measurable criteria which, when met, would support a determination under section 4(a)(1) that the species should be removed from the List of Endangered and Threatened Species; and (3) estimates of the time and costs required to carry out those measures needed to achieve the plan's goal and to achieve intermediate steps toward that goal.

The Service has revised its approach to recovery planning; the revised process is called Recovery Planning and Implementation (RPI). The RPI process is intended to reduce the time needed to develop and implement recovery plans, increase recovery plan relevancy over a longer timeframe, and add flexibility to recovery plans so they can be adjusted to new information or circumstances. Under RPI, a recovery plan will include statutorily required elements (objective, measurable criteria, site-specific management actions, and estimates of time and costs), along with a concise introduction and our strategy for how we plan to achieve species recovery. The RPI recovery plan is supported by a separate Species Status Assessment, or in cases such as this one, a species biological report that provides the background information and threat assessment, which are key to recovery plan development. The essential component to flexible implementation under RPI is producing a separate working document called the Recovery Implementation Strategy (implementation strategy). The implementation strategy steps down from the more general description of actions described in the recovery plan to detail the specific, near-term activities needed to implement the recovery plan. The implementation strategy will be adaptable by being able to incorporate new information without having to concurrently revise the recovery plan, unless changes to statutory elements are required.

Franciscan manzanita was thought to be extirpated in the wild prior to the discovery of a single plant in 2009. There is still only a single known wild specimen, although the species also exists in cultivation to a limited extent. We listed Franciscan manzanita throughout its entire range on September 5, 2012 (77 FR 54434). The species has been known to occur only on the San Francisco peninsula in areas with serpentine soils, bedrock outcrops, greenstone, and mixed Franciscan rock. In addition to these serpentine soils, cool air temperatures, and summer fog are the primary habitat requirements for the species.

The most significant threat to Franciscan manzanita is habitat loss from urbanization, which continues to impact remnant suitable habitat. Other threats include competition from invasive native and nonnative plants, potential infestation by Phytophthora sp., damage from herbivores such as the California vole, climate change, visitor use, vandalism, stochastic events, and the effects of small population size, water stress, and hybridization with closely related species.

Recovery Plan Goals

The purpose of a recovery plan is to provide a framework for the recovery of species so that protection under the ESA is no longer necessary. A recovery plan includes scientific information about the species and provides criteria that enable us to gauge whether downlisting or delisting the species is warranted. Furthermore, recovery plans help guide our recovery efforts by describing actions we consider necessary for each species' conservation and by estimating time and costs for implementing needed recovery measures.

The goal of this draft recovery plan is to improve the status of Franciscan manzanita so that it can be downlisted. Due to the current lack of information about the species' biology and habitat requirements, the magnitude of current threats, and the existence of only a single plant in the wild, it is not currently practicable to determine appropriate delisting criteria; therefore, we focus on meeting the goal of downlisting. To meet the recovery goal of downlisting, the following objectives have been identified:

1. Establish additional stands of Franciscan manzanita using cuttings and layers from the wild plant originally found on Doyle Drive.

2. Establish stands of Franciscan manzanita using cuttings and layers from plants collected from the Laurel Hill Cemetery that represent other genotypes, and plant these individuals sufficiently close to the wild Franciscan manzanita clones so that outcrossing occurs among the genetically distinct individuals.

3. Protect and manage habitat around extant and newly established plants (via vegetation control, irrigation supplementation, disease prevention, herbivore removal, and other means).

4. Protect suitable habitat for future establishment of Franciscan manzanita populations.

As Franciscan manzanita meets reclassification criteria, we will review its status and consider it for downlisting on the Federal Lists of Endangered and Threatened Wildlife and Plants.

Public Comments Solicited

We solicit written comments on the draft recovery plan described in this notice. All comments received by the date specified in DATES will be considered in development of a final recovery plan for Franciscan manzanita. You may submit written comments and information by mail or in person to the Sacramento Fish and Wildlife Office at the above address (see ADDRESSES).

Public Availability of Comments

Before including your address, phone number, email address, or other personal identifying information in your comment, you should be aware that your entire comment—including your personal identifying information—may be made publicly available at any time. While you can ask us in your comment to withhold your personal identifying information from public review, we cannot guarantee that we will be able to do so.

Authority

We developed this draft recovery plan under the authority of section 4(f) of the Act, 16 U.S.C. 1533(f).

Lawrence Rabin,
Acting Regional Director, Pacific Southwest Region.

[FR Doc. 2018-27825 Filed 12-21-18; 8:45 am]

BILLING CODE 4333-15-P